DEPARTMENT OF THE TREASURY

Office of Thrift Supervision

Superior Federal Bank, FSB; Notice of Appointment of Conservator

Notice is hereby given that, pursuant to the authority contained in Section 5(d)(2) of the Home Owners' Loan Act, the Office of Thrift Supervision has duly appointed the Federal Deposit Insurance Corporation as sole Conservator for Superior Federal Bank, FSB, Hinsdale, Illinois, on July 27, 2001.

Dated: July 31, 2001.
By the Office of Thrift Supervision.
Nadine Y. Washington,
Corporate Secretary.

[FR Doc. 01-19518 Filed 8-3-01; 8:45 am]

BILLING CODE 6720-01-M